FEDERAL DEPOSIT INSURANCE CORPORATION

Agency Information Collection Activities: Renewal of an Information Collection; Comment Request

AGENCY: Federal Deposit Insurance Corporation (FDIC).

ACTION: Notice and request for comment.

SUMMARY: The FDIC, as part of its continuing effort to reduce paperwork and respondent burden, invites the general public and other Federal agencies to take this opportunity to comment on proposed and/or continuing information collections, as required by the Paperwork Reduction Act of 1995 (44 U.S.C. chapter 35). Currently, the FDIC is soliciting comments concerning the following collections of information titled: (1) Recordkeeping and Disclosure Requirements in Connection with Regulation Z (Truth in Lending); (2) Recordkeeping and Disclosure Requirements in Connection with Regulation M (Consumer Leasing); (3) Recordkeeping and Disclosure Requirements in Connection with Regulation E (Electronic Fund Transfers), and (4) Recordkeeping and Disclosure Requirements in Connection with Regulation B (Equal Credit Opportunity).

DATES: Comments must be submitted on or before August 20, 2004.

ADDRESSES: Interested parties are invited to submit written comments to Thomas Nixon, Legal Division (202) 898-8766, Federal Deposit Insurance Corporation, 550 17th Street NW., Washington, DC 20429. Comments may be hand-delivered to the guard station at the rear of the 17th Street Building (located on F Street), on business days between 7 a.m. and 5 p.m.

Comments may also be submitted to the OMB desk officer for the FDIC: Mark Menchik, Office of Information and Regulatory Affairs, Office of Management and Budget, New Executive Office Building, Washington, DC 20503.

FOR FURTHER INFORMATION CONTACT: Thomas Nixon, at the address identified above.

SUPPLEMENTARY INFORMATION: Proposal to renew the following currently approved collections of information:

1. Title: Recordkeeping and Disclosure Requirements in Connection with Regulation Z (Truth in Lending).

OMB Number: 3064-0082.

Frequency of Response: On occasion.

Affected Public: State nonmember banks that regularly offer or extend consumer credit.

General Description of Collection: Regulation Z (12 CFR 226), issued by the Board of Governors of the Federal Reserve System, prescribes uniform methods of computing the cost of credit, disclosure of credit terms, and procedures for resolving billing errors on certain credit accounts.

Burden estimate | Number of respondents | Annual frequency | Response time | Annual burden hours
Subpart B
Open-End Credit
Initial Disclosures | 4,941 | 1,150 | ¹ 1.5 | 142,054
Change in Terms | 4,941 | 2,500 | ¹ 1 | 205,875
Periodic Statements | 4,941 | 12 | ² 8 | 474,336
Error Resolution:
Credit Cards | 1,243 | 145 | ¹ 30 | 23,617
Other Reg. Z complaints | 4,941 | 2 | ¹ 30 | 4,941
Credit & Charge Card Accounts—Advance disclosures | 1,243 | 12 | ² 8 | 119,328
Home equity plans:
Advance disclosure | 3,404 | 790 | ¹ 1.5 | 67,229
Change in Terms | 3,404 | 10 | ¹ 3 | 1,702
Subpart C
Closed-end credit disclosures | 4,941 | 2,472 | ¹ 6.5 | 1,323,199
Sections 226.16 and 226.24 Advertising | 4,941 | 5 | ¹ 25 | 9,882
Subpart E—Pre-closing disclosure | 115 | 250 | ¹ 3 | 1,437
Total |  |  |  | 2,373,600
¹ Minutes.
² Hours.

2. Title: Recordkeeping and Disclosure Requirements in Connection with Regulation M (Consumer Leasing).

OMB Number: 3064-0083.

Frequency of Response: On occasion.

Affected Public: State nonmember banks engaging in consumer leasing.

General Description of Collection: Regulation M (12 CFR 213), issued by the Board of Governors of the Federal Reserve System, implements the consumer leasing provisions of the Truth in Lending Act.

Estimated Number of Respondents: 1,755.

Estimated Time per Response: .75 hours.

Estimated average frequency of transactions per year: 100.

Total Annual Burden: 131,625 hours.

3. Title: Recordkeeping and Disclosure Requirements in Connection with Regulation E (Electronic Fund Transfers).

OMB Number: 3064-0084.

Frequency of Response: On occasion.

Affected Public: Any users of the electronic fund transfer system.

General Description of Collection: Regulation E (12 CFR 205), issued by the Board of Governors of the Federal Reserve System, establishes the rights, liabilities, and responsibilities of consumers who use electronic fund transfer services and of financial institutions that offer these services.

Burden estimate | Number of respondents | Annual frequency | Response time | Annual burden hours
Initial disclosures:
Initial terms | 5,318 | 250 | ¹ 1.5 | 33,238
Change in terms | 5,318 | 340 | ¹ 1 | 30,135
Periodic disclosure | 5,318 | 12 | ² 7 | 446,712
Error resolution rules | 5,318 | 8 | ¹ 30 | 21,272
Total |  |  |  | 531,357
¹ Minutes.
² Hours.

4. Title: Recordkeeping and Disclosure Requirements in Connection with Regulation B (Equal Credit Opportunity).

OMB Number: 3064-0085.

Frequency of Response: On occasion.

Affected Public: State nonmember banks engaging in credit transactions.

General Description of Collection: Regulation B (12 CFR 202), issued by the Board of Governors of the Federal Reserve System, prohibits creditors from discriminating against applicants on any of the bases specified by the Equal Credit Opportunity Act, establishes guidelines for gathering and evaluating credit information, and requires creditors to give applicants a written notification of rejection of an application.

Burden estimate | Number of respondents | Frequency | Response time | Annual burden hours
Notice of action | 5,318 | 1,715 | ¹ 2.50 | 380,015
Credit history reporting | 5,318 | 850 | ¹ 2.00 | 150,677
Monitoring data | 5,318 | 360 | ¹ 0.50 | 15,954
Appraisal:
Appraisal report upon request | 5,318 | 190 | ¹ 5.00 | 84,202
Notice of right to appraisal | 5,318 | 1,650 | ¹ 0.25 | 36,561
Self-testing:
Recordkeeping of test | 1,100 | 1 | ² 2 | 2,200
Recordkeeping of corrective action | 275 | 1 | ² 8 | 2,200
Disclosure for optional self-test | 1,100 | 2,500 | ¹ 1 | 45,833
Total |  |  |  | 717,642
¹ Minutes.
² Hours.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the information collection on respondents, including through the use of automated collection techniques or other forms of information technology.

At the end of the comment period, the comments and recommendations received will be analyzed to determine the extent to which the collection should be modified prior to submission to OMB for review and approval. Comments submitted in response to this notice also will be summarized or included in the FDIC's requests to OMB for renewal of these collections. All comments will become a matter of public record.

Dated at Washington, DC, this 16th day of June, 2004.
Federal Deposit Insurance Corporation.
Robert E. Feldman,
Executive Secretary.

[FR Doc. 04-13971 Filed 6-18-04; 8:45 am]

BILLING CODE 6714-01-P